DEPARTMENT OF HEALTH AND HUMAN SERVICES

National Institutes of Health

Proposed Collection; 60-Day Comment Request; Cancer Therapy Evaluation Program (CTEP) Branch and Support Contracts Forms and Surveys (National Cancer Institute)

AGENCY: National Institutes of Health, HHS.

ACTION: Notice.

SUMMARY: In compliance with the requirement of the Paperwork Reduction Act of 1995 to provide opportunity for public comment on proposed data collection projects, the National Cancer Institute (NCI) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Michael Montello, Pharm. D., Cancer Therapy Evaluation Program (CTEP), 9609 Medical Center Drive, MSC 9742, Rockville, MD 20850 or call non-toll-free number 240-276-6080 or email your request, including your address to: montellom@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: CTEP Support Contract Forms and Surveys (NCI), 0925-0753 Expiration Date 07/31/2021, REVISION, National Cancer Institute (NCI), National Institutes of Health (NIH).

Need and Use of Information Collection: The National Cancer Institute (NCI) Cancer Therapy Evaluation Program (CTEP) and the Division of Cancer Prevention (DCP) fund an extensive national program of cancer research, sponsoring clinical trials in cancer prevention, symptom management and treatment for qualified clinical investigators. As part of this effort, CTEP implements programs to register clinical site investigators and clinical site staff, and to oversee the conduct of research at the clinical sites. CTEP and DCP also oversee two support programs, the NCI Central Institutional Review Board (CIRB) and the Cancer Trial Support Unit (CTSU). The combined systems and processes for initiating and managing clinical trials is termed the Clinical Oncology Research Enterprise (CORE) and represents an integrated set of information systems and processes which support investigator registration, trial oversight, patient enrollment, and clinical data collection. The information collected is required to ensure compliance with applicable federal regulations governing the conduct of human subjects research (45 CFR 46 and 21 CRF 50), and when CTEP acts as the Investigational New Drug (IND) holder, FDA regulations pertaining to the sponsor of clinical trials and the selection of qualified investigators under 21 CRF 312.53). Survey collections assess satisfaction and provide feedback to guide improvements with processes and technology.

OMB approval is requested for 3 years. There are no costs to respondents other than their time. The total estimated annualized burden hours are 151,716.

Estimated Annualized Burden Hours
Form name | Type of respondent | Number of respondents | Number of responses per respondent | Average burden per response (in hours) | Total annual burden hours
CTSU IRB/Regulatory Approval Transmittal Form (Attach. A01) | Health Care Practitioner | 2,444 | 12 | 2/60 | 978
CTSU IRB Certification Form (Attach. A02) | Health Care Practitioner | 2,444 | 12 | 10/60 | 4,888
Withdrawal from Protocol Participation Form (Attach. A03) | Health Care Practitioner | 279 | 1 | 10/60 | 47
Site Addition Form (Attach. A04) | Health Care Practitioner | 80 | 12 | 10/60 | 160
CTSU Request for Clinical Brochure (Attach. A06) | Health Care Practitioner | 360 | 1 | 10/60 | 60
CTSU Supply Request Form (Attach. A07) | Health Care Practitioner | 90 | 12 | 10/60 | 180
RTOG 0834 CTSU Data Transmittal Form (Attach. A10) | Health Care Practitioner | 12 | 76 | 10/60 | 152
CTSU Patient Enrollment Transmittal Form (Attach. A15) | Health Care Practitioner | 12 | 12 | 10/60 | 24
CTSU Transfer Form (Attach. A16) | Health Care Practitioner | 360 | 2 | 10/60 | 120
CTSU System Access Request Form (Attach. A17) | Health Care Practitioner | 180 | 1 | 10/60 | 30
CTSU OPEN Rave Request Form (Attach. A18) | Health Care Practitioner | 30 | 21 | 10/60 | 105
CTSU LPO Form Creation (Attach. A19) | Health Care Practitioner | 5 | 2 | 120/60 | 20
CTSU Site Form Creation and PDF (Attach. A20) | Health Care Practitioner | 400 | 10 | 30/60 | 2,000
CTSU PDF Signature Form (Attach. A21) | Health Care Practitioner | 400 | 10 | 10/60 | 667
NCI CIRB AA & DOR between the NCI CIRB and Signatory Institution (Attach. B01) | Participants | 50 | 1 | 15/60 | 13
NCI CIRB Signatory Enrollment Form (Attach. B02) | Participants | 50 | 1 | 15/60 | 13
CIRB Board Member Application (Attach. B03) | Board Member | 100 | 1 | 30/60 | 50
CIRB Member COI Screening Worksheet (Attach. B08) | Board Members | 100 | 1 | 15/60 | 25
CIRB COI Screening for CIRB meetings (Attach. B09) | Board Members | 72 | 1 | 15/60 | 18
CIRB IR Application (Attach. B10) | Health Care Practitioner | 80 | 1 | 1 | 80
CIRB IR Application for Exempt Studies (Attach. B11) | Health Care Practitioner | 4 | 1 | 30/60 | 2
CIRB Amendment Review Application (Attach. B12) | Health Care Practitioner | 400 | 1 | 15/60 | 100
CIRB Ancillary Studies Application (Attach. B13) | Health Care Practitioner | 1 | 1 | 1 | 1
CIRB Continuing Review Application (Attach. B14) | Health Care Practitioner | 400 | 1 | 15/60 | 100
Adult IR of Cooperative Group Protocol (Attach. B15) | Board Members | 65 | 1 | 180/60 | 195
Pediatric IR of Cooperative Group Protocol (Attach. B16) | Board Members | 15 | 1 | 180/60 | 45
NCI Adult/Pediatric Continuing Review of Cooperative Group Protocol (Attach. B17) | Board Members | 275 | 1 | 1 | 275
Adult Amendment of Cooperative Group Protocol (Attach. B19) | Board Members | 40 | 1 | 120/60 | 80
Pediatric Amendment of Cooperative Group Protocol (Attach. B20) | Board Members | 25 | 1 | 120/60 | 50
Pharmacist's Review of a Cooperative Group Study (Attach. B21) | Board Members | 50 | 1 | 120/60 | 100
Adult Expedited Amendment Review (Attach. B23) | Board Members | 348 | 1 | 30/60 | 174
Pediatric Expedited Amendment Review (Attach. B24) | Board Members | 140 | 1 | 30/60 | 70
Adult Expedited Continuing Review (Attach. B25) | Board Members | 140 | 1 | 30/60 | 70
Pediatric Expedited Continuing Review (Attach. B26) | Board Members | 36 | 1 | 30/60 | 18
Adult Cooperative Group Response to CIRB Review (Attach. B27) | Health Care Practitioner | 30 | 1 | 1 | 30
Pediatric Cooperative Group Response to CIRB Review (Attach. B28) | Health Care Practitioner | 5 | 1 | 1 | 5
Adult Expedited Study Chair Response to Required Modifications (Attach. B29) | Board Members | 40 | 1 | 30/60 | 20
Reviewer Worksheet- Determination of UP or SCN (Attach. B31) | Board Members | 400 | 1 | 10/60 | 67
Reviewer Worksheet -CIRB Statistical Reviewer Form (Attach. B32) | Board Members | 100 | 1 | 15/60 | 25
CIRB Application for Translated Documents (Attach. B33) | Health Care Practitioner | 100 | 1 | 30/60 | 50
Reviewer Worksheet of Translated Documents (Attach. B34) | Board Members | 100 | 1 | 15/60 | 25
Reviewer Worksheet of Recruitment Material (Attach. B35) | Board Members | 20 | 1 | 15/60 | 5
Reviewer Worksheet Expedited Study Closure Review (Attach. B36) | Board Members | 20 | 1 | 15/60 | 5
Reviewer Worksheet of Expedited IR (Attach. B38) | Board Members | 5 | 1 | 30/60 | 3
Annual Signatory Institution Worksheet About Local Context (Attach. B40) | Health Care Practitioner | 400 | 1 | 40/60 | 267
Annual Principal Investigator Worksheet About Local Context (Attach. B41) | Health Care Practitioner | 1,800 | 1 | 20/60 | 600
Study-Specific Worksheet About Local Context (Attach. B42) | Health Care Practitioner | 4,800 | 1 | 15/60 | 1,200
Study Closure or Transfer of Study Review Resp. (Attach. B43) | Health Care Practitioner | 1,680 | 1 | 15/60 | 344
Unanticipated Problem or Serious or Continuing Noncompliance Reporting Form (Attach. (B44) | Health Care Practitioner | 360 | 1 | 20/60 | 120
Change of Signatory Institution PI Form (Attach. B45) | Health Care Practitioner | 120 | 1 | 20/60 | 40
Request Waiver of Assent Form (Attach. B46) | Health Care Practitioner | 35 | 1 | 20/60 | 12
CIRB Waiver of Consent Request Supplemental Form (Attachment B47) | Health Care Practitioner | 20 | 1 | 15/60 | 5
Review Worksheet CIRB Review for Inclusion of Incarcerated Participants (Attachment B48) | Board Members | 20 | 1 | 1 | 20
Notification of Incarcerated Participant Form (B49) | Health Care Practitioner | 20 | 1 | 20/60 | 7
CTSU OPEN Survey (Attach. C03) | Health Care Practitioner | 10 | 1 | 15/60 | 3
CIRB Customer Satisfaction Survey (Attach. C04) | Participants | 600 | 1 | 15/60 | 150
Follow-up Survey (Communication Audit) (Attach. C05) | Participants/Board Members | 300 | 1 | 15/60 | 75
CIRB Board Member Annual Assessment Survey (Attach. C07) | Board Members | 60 | 1 | 15/60 | 15
PIO Customer Satisfaction Survey (Attach. C08) | Health Care Practitioner | 60 | 1 | 5/60 | 5
Audit Scheduling Form (Attach. D01) | Group/CTMS Users | 152 | 5 | 21/60 | 266
Preliminary Audit Findings Form (Attach. D02) | Auditor | 152 | 5 | 10/60 | 127
Audit Maintenance Form (Attach. D03) | Group/CTMS Users | 152 | 5 | 9/60 | 114
Final Audit Finding Report Form (Attach. D04) | Group/CTMS Users | 75 | 11 | 1,098/60 | 15,098
Follow-up Form (Attach. D05) | Group/CTMS Users | 75 | 7 | 27/60 | 236
Roster Maintenance Form (Attach. D06) | CTMS Users | 5 | 1 | 18/60 | 2
Final Report and CAPA Request Form (Attach. D07) | CTMS Users | 12 | 9 | 1,800/60 | 3,240
NCI/DCTD/CTEP FDA Form 1572 for Annual Submission (Attach. E01) | Physician | 26,500 | 1 | 15/60 | 6,625
NCI/DCTD/CTE Biosketch (Attach. E02) | Physician; Health Care Practitioner | 48,000 | 1 | 120/60 | 96,000
NCI/DCTD/CTEP Financial Disclosure Form (Attach. E03) | Physician; Health Care Practitioner | 48,000 | 1 | 15/60 | 12,000
NCI/DCTD/CTEP Agent Shipment Form (ASF) (Attach. E04) | Physician | 24,000 | 1 | 10/60 | 4,000
Totals |  | 167,715 | 276 |  | 151,716

Dated: October 1, 2020.
Diane Kreinbrink,
Project Clearance Liaison, National Cancer Institute, National Institutes of Health.

[FR Doc. 2020-22265 Filed 10-7-20; 8:45 am]

BILLING CODE 4140-01-P